DEPARTMENT OF ENERGY

Federal Energy Regulatory Commission

[Docket Nos. EC03-20-000, EL02-104-000, ER02-2234-000, ER02-2234-001 and ER03-139-000]

California Power Exchange Corporation; Notice of Filing for Aapproval of Funding and Governance as Provided in Confirmed Chapter 11 Plan

November 22, 2002.

Take notice that on November 20, 2002, the Official Committee of Participant Creditors (Committee) of the California Power Exchange Corporation (CalPX) tendered for filing a request for approval of funding and governance, in accordance with the Commission's Order on Complaint and Order Granting Petition for Declaratory Order, issued on July 30, 2002, in Docket No. EL02-104-000, 100 FERC ¶ 61,124, and the “Official Committee of Participant Creditors” Fifth Amended Chapter 11 Plan, As Modified (Revised October 1, 2002)” confirmed by the United States Bankruptcy Court for the Central District of California by an Order entered on November 1, 2002 (Confirmed Plan). The Committee requests that the Commission approve, on an expedited basis: (1) The establishment of reserves and accounts by CalPX for specified purposes, and (2) the governance structure for reorganized CalPX, as set forth in the Confirmed Plan.

Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings. Comment Date: December 6, 2002.

Linwood A. Watson, Jr.,
Deputy Secretary.

[FR Doc. 02-30278 Filed 11-27-02; 8:45 am]

BILLING CODE 6717-01-P